FEDERAL COMMUNICATIONS COMMISSION

Notice of Public Information Collection(s) Being Submitted for Review to the Office of Management and Budget

December 23, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 10, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0760.

Title: Access Charge Reform, CC Docket No. 96-262 (First Report and Order); Second Order on Reconsideration and Memorandum Opinion and Order, and Fifth Report and Order.

Form No.: N/A.

Type of Review: Revision of a currently approved collection.

Respondents: Business or other for-profit.

Number of Respondents: 17.

Estimated Time per Response: 3-1,575 hours.

Frequency of Response: On occasion and one-time reporting requirements.

Total Annual Burden: 55,454 hours.

Total Annual Cost: $12,240.

Privacy Act Impact Assessment: N/A.

Needs and Uses: The Commission is submitting this revised information collection to OMB in order to obtain the full three year clearance.

This collection has been revised because we have eliminated the cost study and third party disclosure requirements. The information collection requirements that remain in this submission to OMB are: (a) Showings under the market-based approach; (b) contract-based tariff filings; (c) proposed deaveraging of common line and traffic sensitive access elements; and (d) proposed common line and traffic sensitive Phase II showings. The information to be collected by the Commission by incumbent LECs for use in determining whether the incumbent LECs should receive regulatory relief proposed in the Orders referenced in the title above. The information collected under the Second Order on Reconsideration and Memorandum Opinion and Order would be submitted by LECs to the interexchange carriers (IXCs) for use in developing the most cost-efficient rates and rate structures.

OMB Control No.: 3060-0207.

Title: Part 11—Emergency Alert System (EAS).

Form No.: N/A.

Type of Review: Revision of a currently approved collection.

Respondents: Business or other for-profit, not-for-profit institutions, and state, local or tribal government.

Number of Respondents: 63,000 respondents; 3,402,762 responses.

Estimated Time per Response: .017 hours-40 hours.

Frequency of Response: On occasion reporting requirement, recordkeeping requirement, and third party disclosure requirement.

Total Annual Burden: 62,472 hours.

Total Annual Cost: N/A.

Privacy Act Impact Assessment: N/A.

Needs and Uses: The Commission is submitting this information collection to OMB for revision. The Commission revised this collection by eliminating the one-time voluntary purchase of a computer chip to update event and location codes contained in Section 11.31 (165,00 burden hours and $8,250,000 cost burden) that was approved by OMB on 1/23/03. The program change decrease in hour burden is slightly offset by the inclusion of new additional respondents, i.e., digital television, digital radio, digital cable, and satellite television and radio. There were no changes in the reporting, recordkeeping or third party disclosure requirements.

Federal Communications Commission.
Marlene H. Dortch,
Secretary.

[FR Doc. 06-151 Filed 1-10-06; 8:45 am]

BILLING CODE 6712-01-P